DEPARTMENT OF DEFENSE

Office of the Secretary

[Transmittal No. 21-47]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 21-47, Policy Justification, and Sensitivity of Technology.

Dated: January 29, 2026.
Stephanie J. Bost,
Alternate OSD Federal Register Liaison Officer, Department of Defense.

BILLING CODE 6001-FR-P

BILLING CODE 6001-FR-C

Transmittal No. 21-47

Notice of Proposed Issuance of Letter of Offer Pursuant to Section 36(b)(1) of the Arms Export Control Act, as amended

(i) Prospective Purchaser: Government of Nigeria

(ii) Total Estimated Value:

Major Defense Equipment * | $223 million
Other | $123 million
TOTAL | $346 million

Funding Source: National Funds

(iii) Description and Quantity or Quantities of Articles or Services under Consideration for Purchase:

Major Defense Equipment (MDE):

One thousand two (1,002) MK-82 general purpose 500 lb bombs

One thousand two (1,002) MXU-650 air foil groups (AFGs) for 500 lb

Paveway II GBU-12

Five hundred fifteen (515) MXU-1006 AFGs for 250 lb Paveway II GBU-58

One thousand five hundred seventeen (1,517) MAU-169 or MAU-209 computer

control groups for Paveway II GBU-12/GBU-58

One thousand two (1,002) FMU-152 joint programmable fuzes

Five thousand (5,000) Advanced Precision Kill Weapon System II all-up-rounds (each consisting of one WGU-59/B guidance section, high-explosive warhead, and MK66-4 rocket motor)

Major Defense Equipment (MDE):

The following non-MDE items will also be included: FMU-139 joint programmable fuzes; bomb components, impulse cartridges, and high-explosive and practice rockets; integration support and test equipment; United States (U.S.) Government and contractor technical, engineering, and logistics support; personnel services; and other related elements of logistical and program support.

(iv) Military Department: Air Force (NI-D-AAA); Army (BA-B-AAA); Navy (NI-P-AAB)

(v) Prior Related Cases, if any: NI-D-SAB, NI-D-QAG, NI-D-YAB, NI-B-UBC, NI-P-AAA, NI-D-FAA

(vi) Sales Commission, Fee, etc., Paid, Offered, or Agreed to be Paid: None known at this time

(vii) Sensitivity of Technology Contained in the Defense Article or Defense Services Proposed to be Sold: See Attached Annex

(viii) Date Report Delivered to Congress: August 13, 2025

* as defined in Section 47(6) of the Arms Export Control Act.

POLICY JUSTIFICATION

Nigeria—Munitions, Precision Bombs, and Precision Rockets

The Government of Nigeria has requested to buy one thousand two (1,002) MK-82 general purpose 500 lb bombs; one thousand two (1,002) MXU-650 air foil groups for 500 lb Paveway II GBU-12; five hundred fifteen (515) MXU-1006 AFGs for 250 lb Paveway II GBU-58; one thousand five hundred seventeen (1,517) MAU-169 or MAU-209 computer control groups for Paveway II GBU-12/GBU-58; one thousand two (1,002) FMU-152 joint programmable fuzes; and five thousand (5,000) Advanced Precision Kill Weapon System II all-up-rounds (each consisting of one WGU-59/B guidance section, high-explosive warhead, and MK66-4 rocket motor). The following non-MDE items will also be included: FMU-139 joint programmable fuzes; bomb components, impulse cartridges, and high-explosive and practice rockets; integration support and test equipment; U.S. Government and contractor technical, engineering, and logistics support; personnel services; and other related elements of logistical and program support. The total estimated program cost is $346 million.

This proposed sale will support the foreign policy goals and national security objectives of the U.S. by improving the security of a strategic partner in Sub-Saharan Africa.

The proposed sale will improve Nigeria's capability to meet current and future threats through operations against terrorist organizations and to counter illicit trafficking in Nigeria and the Gulf of Guinea. Nigeria will have no difficulty absorbing these munitions into its armed forces.

The proposed sale of this equipment will not alter the basic military balance in the region.

The principal contractors will be RTX Missiles and Defense, located in Tucson, AZ; Lockheed Martin Corporation, located in Archibald, PA; and BAE Systems, located in Hudson, NH. At this time, the U.S. Government is not aware of any offset agreement proposed in connection with this potential sale. Any offset agreement will be defined in negotiations between the purchaser and the contractor.

Implementation of this proposed sale will not require the assignment of any additional U.S. Government or contractor representatives to Nigeria.

There will be no adverse impact on U.S. defense readiness as a result of this proposed sale.

Transmittal No. 21-47

Notice of Proposed Issuance of Letter of Offer Pursuant to Section 36(b)(1) of the Arms Export Control Act

Annex

Item No. vii

(vii) Sensitivity of Technology:

1. The Advance Precision Kill Weapon System II (APKWS II) all-up-round (AUR) is an air-to-ground weapon that consists of an APKWS II guidance section (GS), legacy 2.75-inch MK66 mod 4 rocket motor, and legacy MK152, MK282, or MK435/436 warhead and fuze. After launch, the GS activates, and the seeker detects laser energy reflected from a target designated with a remote or autonomous laser. The control system then guides the rocket to the target. APKWS II increases stowed kills by providing precise engagements at standoff ranges with sufficient accuracy for a high single-shot probability of hit against soft and lightly armored targets, thereby minimizing collateral damage. The APKWS II is capable of day and night operation and performance in many adverse environments.

2. GBU-12/58 Paveway II (PW-II) 500 lb (GBU-12) and 250 lb (GBU-58) munitions are maneuverable, free-fall, laser-guided bombs (LGBs) that guide to reflected laser energy from the desired target. Employment of the LGB is the same as a normal general purpose (GP) warhead, except the semi-active guidance corrects for employment errors inherent in any delivery system. Laser designation for the weapon can be provided by a variety of laser target markers or designators from the air or ground. The Paveway system consists of a computer control group (CCG), a warhead-specific air foil group (AFG) that attaches to the nose and tail respectively of the MK-81 and MK-82 GP bombs, and a fuze. The weapon is primarily used for precision bombing against non-hardened targets.

a. The MAU-169 or the MAU-209 are the CCG for the GBU-12 and GBU-58.

b. The MXU-650 is the AFG for the 500-pound GBU-12.

c. MXU-1006/B is the AFG for the 250-pound GBU-58.

3. The FMU-152 and -139 joint programmable fuzes are multi-delay sensors compatible with general purpose kits, tail kits, high-explosive bombs, and reduced collateral damage weapons which provide all arming and detonation event functions combined in a single fuze system.

4. The highest level of classification of defense articles, components, and services included in this potential sale is SECRET.

5. If a technologically advanced adversary were to obtain knowledge of the specific hardware and software elements, the information could be used to develop countermeasures that might reduce weapon system effectiveness or be used in the development of a system with similar or advanced capabilities.

6. A determination has been made that Nigeria can provide substantially the same degree of protection for the sensitive technology being released as the U.S. Government. This sale is necessary in furtherance of the U.S. foreign policy and national security objectives outlined in the Policy Justification.

7. All defense articles and services listed in this transmittal have been authorized for release and export to the Government of Nigeria.

[FR Doc. 2026-02055 Filed 1-30-26; 8:45 am]

BILLING CODE 6001-FR-P